ENVIRONMENTAL PROTECTION AGENCY

[EPA-HQ-OAR-2003-0044; FRL-8955-3]

Risk Management Programs Under Section 112(r)(7) of the Clean Air Act as Amended; Contractor Access to Confidential Business Information and Address Change for the Submission of Risk Management Plans

AGENCY: Environmental Protection Agency (EPA).

ACTION: Notice.

SUMMARY: The EPA has authorized the following contractor to access information that has been, or will be, submitted to EPA under section 112(r) of the Clean Air Act (CAA) as amended: CGI Federal, Inc. and its subcontractor, Management Support Technology, Inc. (MSTI), (GSA Contract #GS-35F4797H to #1518, expiring March 30, 2012). The EPA announces a new address to which Risk Management Plans (RMPs) are to be sent. Some of the information submitted under section 112(r) may be claimed to be confidential business information (CBI) by the submitter.

DATES: RMPs may be sent to the new address effective September 21, 2009.

FOR FURTHER INFORMATION CONTACT: Armando Santiago, Office of Solid Waste and Emergency Response, MC: 5104a, U.S. Environmental Protection Agency, Washington, DC 20460.

SUPPLEMENTARY INFORMATION: The EPA is issuing this notice to inform all submitters of information under section 112(r) of the CAA that EPA may provide the above-mentioned contractor and its subcontractor access to these materials on a need-to-know basis. This contractor will provide technical support to the Office of Solid Waste and Emergency Response in the receipt, processing and storage of Risk Management Plans submitted to EPA under the CAA. In accordance with 40 CFR 2.301(h), EPA has determined that the contractor and its subcontractor require access to CBI submitted to EPA under sections 112(r) and 114 of the CAA in order to perform work satisfactorily under the above-noted contract. The contractor's and subcontractor's personnel will be given access to information submitted under section 112(r) of the CAA. Some of the information may be claimed or determined to be CBI. The contractor's and subcontractor's personnel will be required to sign nondisclosure agreements prior to receiving access to CBI. All contractor access to CAA CBI will take place at the contractor's facility. The contractor will have appropriate procedures and facilities in place to safeguard the CAA CBI to which the contractor and its subcontractor have access. Clearance for access to CBI is scheduled to expire on March 30, 2012 or at contract termination.

Risk Management Plans submitted to EPA should be mailed to: Risk Management Plan (RMP) Reporting Center, P.O. Box 10162, Fairfax, VA 22038. Courier deliveries and express mail should be addressed to: RMP Reporting Center, c/o CGI Federal, 12601 Fair Lakes Circle, Fairfax, VA 22033.

Dated: August 28, 2009.
Deborah Y. Dietrich,
Director, Office of Emergency Management.

[FR Doc. E9-21824 Filed 9-9-09; 8:45 am]

BILLING CODE 6560-50-P